DEPARTMENT OF HOMELAND SECURITY

Federal Emergency Management Agency

Agency Information Collection Activities: Proposed Collection; Comment Request. National Fire Academy Long-Term Evaluation Form for Supervisors and National Fire Academy Long-Term Evaluation for Students/Trainees.

AGENCY: Federal Emergency Management Agency, DHS.

ACTION: Notice; 60-day notice and request for comments; revision of a previously approved information collection; OMB No. 1660-0039; FEMA Form 078-0-2A, National Fire Academy Long-Term Evaluation Student/Trainee; FEMA Form 078-0-2, National Fire Academy Long-Term Evaluation Supervisors.

SUMMARY: The Federal Emergency Management Agency, as part of its continuing effort to reduce paperwork and respondent burden, invites the general public and other Federal agencies to take this opportunity to comment on a revision of a currently approved information collection. In accordance with the Paperwork Reduction Act of 1995, this notice seeks comments concerning the long-term evaluation forms used to evaluate all National Fire Academy resident training.

DATES: Comments must be submitted on or before October 3, 2014.

ADDRESSES: To avoid duplicate submissions to the docket, please use only one of the following means to submit comments:

(1) Online. Submit comments at www.regulations.gov under Docket ID FEMA-2014-0018. Follow the instructions for submitting comments.

(2) Mail. Submit written comments to Regulatory Affairs Division, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Dawn Long, Statistician, (301) 447-1488, for additional information. You may contact the Records Management Division for copies of the proposed collection of information at facsimile number (202) 212-4701 or email address: FEMA-Information-Collections-Management@dhs.gov.

SUPPLEMENTARY INFORMATION: The NFA is mandated under the Fire Prevention and Control Act of 1974 (Pub. L. 93-498) to provide training and education to the Nation's fire service and emergency service personnel. The state of-the-art programs offered by the NFA serve as models of excellence and State and local fire service agencies rely heavily on the curriculum to train their personnel. To maintain the quality of these training programs, it is critical that courses be evaluated after students have had the opportunity to apply the knowledge and skills gained from their training.

Collection of Information

Title: National Fire Academy Long-Term Evaluation Form for Supervisors and National Fire Academy Long-Term Evaluation for Students/Trainees.

Type of Information Collection: Revision of a currently approved information collection.

FEMA Forms: OMB No. 1660-0039; FEMA Form 078-0-2A, National Fire Academy Long-Term Evaluation Student/Trainee; FEMA Form 078-0-2, National Fire Academy Long-Term Evaluation Supervisors.

Abstract: The National Fire Academy Long-Term Evaluation Forms will be used to evaluate all National Fire Academy (NFA) on-campus resident training courses. Course graduates and their supervisors will be asked to evaluate the impact of the training on both individual job performance and the performance of the fire and emergency response department where the student works. The data provided by students and supervisors is used to update existing NFA course materials and to develop new courses that reflect the emerging issues/needs of the Nation's fire service.

Affected Public: State, local or Tribal government.

Number of Respondents: Estimated 3,000 total annual respondents.

Number of Responses: Estimated 3,000 total annual responses.

Estimated Total Annual Burden Hours: 405 burden hours.

Data collection activity/instrument | Number of respondents | Frequency of responses | Hour burden per response | Annual responses | Total annual burden hours
NFA Long Term Evaluation Students/Trainees/FEMA Form 078-0-2A | 1,500 | 1 | .17 | 1,500 | 255
NFA Long Term Evaluation Supervisors/FEMA Form 078-0-2 | 1,500 | 1 | .1 | 1,500 | 150
Total | 3,000 |  |  | 3,000 | 405

Estimated Cost: There is no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 10, 2014.
Loretta Cassatt,
Branch Chief, Records, Mission Support Bureau, Federal Emergency Management Agency, Department of Homeland Security.

[FR Doc. 2014-18400 Filed 8-1-14; 8:45 am]

BILLING CODE 9111-45-P